DEPARTMENT OF ENERGY

Federal Energy Regulatory Commission

Combined Notice of Filings

Take notice that the Commission has received the following Natural Gas Pipeline Rate and Refund Report filings:

Filings Instituting Proceedings

Docket Numbers: PR15-2-000.

Applicants: The Peoples Gas Light and Coke Company.

Description: Tariff filing per 284.123(b)(2) + (g): Application for Approval of Rates Pursuant to Sections 284.123 and 284.224 to be effective 11/1/2014; TOFC:1310.

Filed Date: 10/9/14.

Accession Number: 20141009-5070.

Comments Due: 5 p.m. ET 10/30/14.

284.123(g) Protests Due: 5 p.m. ET 12/8/14.

Docket Numbers: RP15-38-000.

Applicants: WBI Energy Transmission, Inc.

Description: § 4(d) rate filing per 154.204: 2014 Non-conforming Service Agreement—Revised NSP to be effective 5/1/2014.

Filed Date: 10/8/14.

Accession Number: 20141008-5058.

Comments Due: 5 p.m. ET 10/20/14.

Docket Numbers: RP15-39-000.

Applicants: Enable Gas Transmission, LLC.

Description: EGT Annual Report of Total Penalty Revenue Credits for period ending July 31, 2014.

Filed Date: 10/8/14.

Accession Number: 20141008-5100.

Comments Due: 5 p.m. ET 10/20/14.

Docket Numbers: RP15-40-000.

Applicants: Enable Gas Transmission, LLC.

Description: EGT Annual Report of Linked Firm Service Penalty Revenue Credits for period ending July 31, 2014.

Filed Date: 10/8/14.

Accession Number: 20141008-5101.

Comments Due: 5 p.m. ET 10/20/14.

Docket Numbers: RP15-41-000.

Applicants: Ozark Gas Transmission, L.L.C.

Description: § 4(d) rate filing per 154.204: Negotiated Rate Filing for 12-1-2014 to be effective 12/1/2014.

Filed Date: 10/9/14.

Accession Number: 20141009-5151.

Comments Due: 5 p.m. ET 10/21/14.

Docket Numbers: RP15-42-000.

Applicants: Northwest Pipeline LLC.

Description: § 4(d) rate filing per 154.204: Plymouth Tariff Sheet Update Filing to be effective 10/27/2014.

Filed Date: 10/9/14.

Accession Number: 20141009-5156.

Comments Due: 5 p.m. ET 10/21/14.

Docket Numbers: RP15-43-000.

Applicants: Guardian Pipeline, L.L.C.

Description: § 4(d) rate filing per 154.204: Summary of Agreements—Addition of Exelon PAL Agreements and Clean Up to be effective 11/1/2014.

Filed Date: 10/9/14.

Accession Number: 20141009-5201.

Comments Due: 5 p.m. ET 10/21/14.

Docket Numbers: RP15-44-000.

Applicants: Gulf South Pipeline Company, LP.

Description: § 4(d) rate filing per 154.204: Filing to Incorporate Volume 2 TOC and Remove Expired Agreements to be effective 9/23/2014.

Filed Date: 10/10/14.

Accession Number: 20141010-5054.

Comments Due: 5 p.m. ET 10/22/14.

Docket Numbers: RP15-45-000.

Applicants: Colorado Interstate Gas Company, L.L.C.

Description: Annual Report Detailing 2013 Surcharge of Colorado Interstate Gas Company, L.L.C.

Filed Date: 10/10/14.

Accession Number: 20141010-5161.

Comments Due: 5 p.m. ET 10/22/14.

Docket Numbers: RP15-46-000.

Applicants: Columbia Gas Transmission, LLC.

Description: § 4(d) rate filing per 154.601: Negotiated Rate Agmt—Antero to be effective 10/11/2014.

Filed Date: 10/10/14.

Accession Number: 20141010-5180.

Comments Due: 5 p.m. ET 10/22/14.

Docket Numbers: RP15-47-000.

Applicants: Columbia Gas Transmission, LLC.

Description: § 4(d) rate filing per 154.601: Negotiated & Non-Conforming Service Agmts—West Side to be effective 11/1/2014.

Filed Date: 10/10/14.

Accession Number: 20141010-5205.

Comments Due: 5 p.m. ET 10/22/14.

Docket Numbers: RP15-48-000.

Applicants: Lake Charles LNG Company, LLC.

Description: eTariff filing per 154.202: New Tariff Volume with Name Change to be effective 10/14/2014.

Filed Date: 10/14/14.

Accession Number: 20141014-5181.

Comments Due: 5 p.m. ET 10/27/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2014.
Nathaniel J. Davis, Sr.,
Deputy Secretary.

[FR Doc. 2014-24884 Filed 10-17-14; 8:45 am]

BILLING CODE 6717-01-P